DEPARTMENT OF TRANSPORTATION

Federal Aviation Administration

14 CFR Part 97

[Docket No. 30578 ; Amdt. No. 3243]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 16, 2007. The compliance date for each SIAP, associated Takeoff Minimums, and ODP is specified in the amendatory provisions.

The incorporation by reference of certain publications listed in the regulations is approved by the Director of the Federal Register as of November 16, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums,and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on November 2, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 DEC 2007

Kenai, AK, Kenai Muni, ILS OR LOC RWY 19R, Amdt 3

King Salmon, AK, King Salmon, ILS OR LOC/DME RWY 11, Amdt 16

King Salmon, AK, King Salmon, LOC/DME BC RWY 29, Amdt 3

Kotzebue, AK, Ralph Wien Memorial, RNAV (GPS) RWY 9, Amdt 1A

Benton, AR, Saline County Regional, LOC/DME RWY 2, Orig

Benton, AR, Saline County Regional, Takeoff Minimums and Obstacle DP, Orig

Merced, CA, Merced Muni/Macready Field, VOR RWY 30, Orig

San Francisco, CA, San Francisco Intl, LDA/DME RWY 28R, Amdt 1

San Francisco, CA, San Francisco Intl, LDA PRM RWY 28R, Amdt 1 (Simultaneous Close Parallel)

San Francisco, CA, San Francisco Intl, ILS PRM RWY 28L, Amdt 1 (Simultaneous Close Parallel)

San Francisco, CA, San Francisco Intl, ILS OR LOC RWY 28L, Amdt 22

Grand Junction, CO, Grand Junction Rgnl, ILS OR LOC RWY 11, Amdt 15

Washington, DC, Ronald Reagan Washington National, VOR RWY 15, Amdt 9C, CANCELLED

Washington, DC, Ronald Reagan Washington National, RNAV (RNP) RWY 1, Orig

Lakeland, FL, Lakeland Linder Regional, VOR RWY 27, Amdt 7A

Marathon, FL, The Florida Keys Marathon, RNAV (GPS) RWY 7, Orig

Marathon, FL, The Florida Keys Marathon, RNAV (GPS) RWY 25, Orig

Marathon, FL, The Florida Keys Marathon, NDB-A, Orig

Marathon, FL, The Florida Keys Marathon, NDB OR GPS RWY 7, Amdt 3B (CANCELLED)

Marathon, FL, The Florida Keys Marathon, Takeoff Minimums and Obstacle DP, Amdt 1

Orlando, FL, Orlando Intl, VOR RWY 18L, Amdt 3C, CANCELLED

Orlando, FL, Orlando Intl, VOR RWY 18R, Amdt 3C, CANCELLED

St. Petersburg/Clearwater, FL, St. Petersburg-Clearwater Intl, RNAV (GPS)-A, Orig-A

Canton, GA, Cherokee County, RNAV (GPS) RWY 22, Orig

Canton, GA, Cherokee County, NDB RWY 4, Amdt 3

Canton, GA, Cherokee County, Takeoff Minimums and Obstacle DP, Amdt 1

Cordele, GA, Crisp County-Cordele, NDB RWY 10, Amdt 5

Vidalia, GA, Vidalia Regional, RNAV (GPS) RWY 24, Orig-B

Corning, IA, Corning Muni, Takeoff Minimums and Obstacle DP, Amdt 2

Nampa, ID, Nampa Muni, RNAV (GPS) RWY 11, Orig-A

Chicago/Prospect Hgts/Wheeling, IL, Chicago Executive, ILS OR LOC RWY 16, Amdt 2

Chicago/Prospect Hgts/Wheeling, IL, Chicago Executive, RNAV (GPS) RWY 16, Orig

Chicago/Prospect Hgts/Wheeling, IL, Chicago Executive, GPS RWY 16, Orig-A, CANCELLED

Litchfield, IL, Litchfield Muni, RNAV (GPS) RWY 18, Orig-A

Litchfield, IL, Litchfield Muni, RNAV (GPS) RWY 36, Orig-A

Gary, IN, Gary/Chicago Intl, ILS OR LOC RWY 30, Amdt 5

Indianapolis, IN, Indianapolis International, VOR RWY 14, Amdt 26, CANCELLED

Glasgow, KY, Glasgow Muni, Takeoff Minimums and Obstacle DP, Orig

Somerset, KY, Somerset-Pulaski Co-JT Wilson, RNAV (GPS) Y RWY 5, Amdt 2

Somerset, KY, Somerset-Pulaski Co-JT Wilson, RNAV (GPS) Z RWY 5, Orig

Williamsburg, KY, Williamsburg-Whitley County, RNAV (GPS) RWY 20, Orig-A

Lafayette, LA, Lafayette Regional, NDB OR GPS RWY 22L, Amdt 4B, CANCELLED

Leonardtown, MD, St. Mary's County Rgnl, RNAV (GPS) RWY 11, Orig-A

Detroit, MI, Detroit Metropolitan Wayne County, VOR RWY 22L, Amdt 1F, CANCELLED

Bolivar, MO, Bolivar Municipal, RNAV (GPS) RWY 36, Orig-A

Jefferson City, MO, Jefferson City Memorial, Takeoff Minimums and Obstacle DP, Amdt 7

Kansas City, MO, Kansas City Intl, VOR/DME OR TACAN RWY 1L, Orig-A, CANCELLED

Kansas City, MO, Kansas City Intl, VOR/DME OR TACAN RWY 19R, Orig-A, CANCELLED

Kansas City, MO, Kansas City Intl, VOR/DME OR TACAN RWY 27, Orig, CANCELLED

Monett, MO, Monett Muni, RNAV (GPS) RWY 18, Orig-A

Monett, MO, Monett Muni, RNAV (GPS) RWY 36, Orig-A

Monticello, MO, Lewis County Regional, RNAV (GPS) RWY 18, Orig-A

Monticello, MO, Lewis County Regional, RNAV (GPS) RWY 36, Orig-A

St. Louis, MO, Creve Coeur, RNAV (GPS) RWY 16, Amdt 1

St. Louis, MO, Creve Coeur, RNAV (GPS) RWY 34, Amdt 1

St. Louis, MO, Creve Coeur, Takeoff Minimums and Obstacle DP, Amdt 2

Warrensburg, MO, Skyhaven, RNAV (GPS) RWY 18, Orig-A

Warrensburg, MO, Skyhaven, RNAV (GPS) RWY 36, Orig-A

Raymond, MS, John Bell Williams, Takeoff Minimums and Obstacle DP, Amdt 3

Alliance, NE, Alliance Muni, LOC/DME RWY 30, Orig

McCook, NE, McCook Regional, ILS OR LOC/DME RWY 12, Orig

McCook, NE, McCook Regional, RNAV (GPS) RWY 12, Amdt 1

McCook, NE, McCook Regional, VOR RWY 12, Amdt 12

McCook, NE, McCook Regional, LOC/DME RWY 12, Orig, CANCELLED

McCook, NE, McCook Regional, Takeoff Minimums and Obstacle DP, Orig

Oshkosh, NE, Garden County, RNAV (GPS) RWY 12, Amdt 1

Jamestown, ND, Jamestown Regional, ILS OR LOC RWY 31, Amdt 7D

Bowling Green, OH, Wood County, RNAV (GPS) RWY 10, Orig-A

Bowling Green, OH, Wood County, RNAV (GPS) RWY 18, Orig-A

Bowling Green, OH, Wood County, RNAV (GPS) RWY 28, Orig-A

Oklahoma City, OK, Clarence E. Page Muni, RNAV (GPS) RWY 17R, Amdt 1A

Oklahoma City, OK, Clarence E. Page Muni, RNAV (GPS) RWY 35L, Amdt 1A

Ponca City, OK, Ponca City Regional, ILS OR LOC/DME RWY 17, Amdt 2

Ponca City, OK, Ponca City Regional, Takeoff Minimums and Obstacle DP, Orig

Annville, PA, Millard, VOR/DME OR GPS-A, Amdt 3, CANCELLED

Annville, PA, Millard, Takeoff Minimums and Obstacle DP, Orig, CANCELLED

Newport, RI, Newport State, Takeoff Minimums and Obstacle DP, Amdt 3

Memphis, TN, Memphis Intl, VOR/DME RWY 18R, Orig-A, CANCELLED

Ballinger, TX, Bruce Field, RNAV (GPS) RWY 35, Orig-A

Laredo, TX, Laredo Intl, RNAV (GPS) RWY 32, Orig

Laredo, TX, Laredo Intl, VOR OR TACAN RWY 32, Amdt 10

Port Lavaca, TX, Calhoun County, RNAV (GPS) RWY 14, Amdt 1

Port Lavaca, TX, Calhoun County, Takeoff Minimums and Obstacle DP, Orig

Culpeper, VA, Culpeper Rgnl, RNAV (GPS) RWY 4, Orig

Culpeper, VA, Culpeper Rgnl, RNAV (GPS) RWY 22, Orig

Culpeper, VA, Culpeper Rgnl, NDB OR GPS-B, Orig-A, CANCELLED

Culpeper, VA, Culpeper Rgnl, VOR/DME RNAV OR GPS RWY 22, Amdt 1B, CANCELLED

Petersburg, VA, Dinwiddie County, VOR RWY 23, Amdt 6

Petersburg, VA, Dinwiddie County, LOC RWY 5, Amdt 2

Petersburg, VA, Dinwiddie County, RNAV (GPS) RWY 5, Amdt 1

Petersburg, VA, Dinwiddie County, RNAV (GPS) RWY 23, Amdt 1

Petersburg, VA, Dinwiddie County, Takeoff Minimums and Obstacle DP, Orig

Port Angeles, WA, William R. Fairchild Intl, ILS OR LOC RWY 8, Amdt 2A

Port Angeles, WA, William R. Fairchild Intl, RNAV (GPS) RWY 8, Orig-A

Seattle, WA, Boeing Field/King County Intl, RNAV (RNP) Z RWY 13R, Orig

Vancouver, WA, Pearson Field, Takeoff Minimums and Obstacle DP, Amdt 2

Walla Walla, WA, Walla Walla Regional, RNAV (GPS) RWY 2, Amdt 1

Yakima, WA, Yakima Air Terminal/Mcallister Field, ILS RWY 27, Amdt 26D

Green Bay, WI, Austin Straubel Intl, Takeoff Minimums and Obstacle DP, Amdt 2

Middleton, WI, Middleton Muni-Morey Field, RNAV (GPS) RWY 28, Amdt 1A

Waukesha, WI, Waukesha County, ILS OR LOC RWY 10, Amdt 1

[FR Doc. E7-22206 Filed 11-15-07; 8:45 am]

BILLING CODE 4910-13-P